INTERNATIONAL TRADE COMMISSION

[USITC SE-19-006]

Government in the Sunshine Act Meeting Notice

TIME AND DATE: March 29, 2019 at 11:00 a.m.

PLACE: Room 101, 500 E Street SW, Washington, DC 20436, Telephone: (202) 205-2000.

STATUS: Open to the public.

MATTERS TO BE CONSIDERED:

1. Agendas for future meetings: None.

2. Minutes.

3. Ratification List.

4. Vote on Inv. Nos. 701-TA-488 and 731-TA-1199-1200 (Review) (Larger Residential Washers from Korea and Mexico). The Commission is currently scheduled to complete and file its determinations and views of the Commission by April 17, 2019.

5. Outstanding action jackets: None.

In accordance with Commission policy, subject matter listed above, not disposed of at the scheduled meeting, may be carried over to the agenda of the following meeting.

By order of the Commission.
Issued: March 19, 2019.
William Bishop,
Supervisory Hearings and Information Officer.

[FR Doc. 2019-05584 Filed 3-20-19; 11:15 am]

BILLING CODE 7020-02-P